DEPARTMENT OF TRANSPORTATION

Federal Aviation Administration

14 CFR Part 39

[Docket No. FAA-2018-0761; Product Identifier 2018-NM-088-AD; Amendment 39-19516; AD 2018-25-05]

RIN 2120-AA64

Airworthiness Directives; Airbus SAS Airplanes

AGENCY: Federal Aviation Administration (FAA), Department of Transportation (DOT).

ACTION: Final rule.

SUMMARY: We are adopting a new airworthiness directive (AD) for certain Airbus SAS Model A350-941 airplanes. This AD was prompted by reports that, for multimaterial (hybrid) joints of the passenger door frame fittings, the interfay sealant was not applied between all surfaces of the joint parts. This AD requires modification of the hybrid joints of the passenger doors by applying additional corrosion protection to the hybrid joints of the passenger door frame fittings. We are issuing this AD to address the unsafe condition on these products.

DATES: This AD is effective January 14, 2019.

The Director of the Federal Register approved the incorporation by reference of a certain publication listed in this AD as of January 14, 2019.

ADDRESSES: For service information identified in this final rule, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0761.

Examining the AD Docket

You may examine the AD docket on the internet at http://www.regulations.gov by searching for and locating Docket No. FAA-2018-0761; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

We issued a notice of proposed rulemaking (NPRM) to amend 14 CFR part 39 by adding an AD that would apply to certain Airbus SAS Model A350-941 airplanes. The NPRM published in the Federal Register on September 4, 2018 (83 FR 44844). The NPRM was prompted by reports that, for multimaterial (hybrid) joints of the passenger door frame fittings, the interfay sealant was not applied between all surfaces of the joint parts. The NPRM proposed to require modification of the hybrid joints of the passenger doors by applying additional corrosion protection to the hybrid joints of the passenger door frame fittings.

We are issuing this AD to address water ingress in the hybrid joints and subsequent galvanic corrosion of the aluminum holes. This condition, if not corrected, could lead to failure of the door, resulting in reduced evacuation capacity from the airplane during an emergency and consequent injury to occupants.

The European Aviation Safety Agency (EASA), which is the Technical Agent for the Member States of the European Union, has issued EASA AD 2018-0108, dated May 15, 2018 (referred to after this as the Mandatory Continuing Airworthiness Information, or “the MCAI”), to correct an unsafe condition for certain Airbus SAS Model A350-941 airplanes. The MCAI states:

Due to the misinterpretation of the prevailing requirements for multimaterial (hybrid) joints of the passenger door frame fittings, the interfay sealant, which prevents water ingress, was only applied on the surface in direct contact with the aluminum parts and not between all surfaces of the joint parts. For sealing of multi-material-stacks involving aluminum, application of interfay sealant is necessary between all assembled parts, even between parts made of corrosion resistant material, in order to ensure a double barrier to prevent water ingress in the joint and subsequent potential galvanic corrosion on the aluminum holes.

This condition, if not corrected, could lead to failure of the door to perform its intended function, possibly resulting in reduced evacuation capacity from the aeroplane during an emergency and consequent injury to occupants.

To address this unsafe condition, Airbus developed production mod 110790 and mod 109554 to improve protection against corrosion, and issued the SB [Airbus Service Bulletin A350-52-P012, dated September 7, 2017] to provide modification instructions for in-service pre-mod aeroplanes.

For the reasons described above, this [EASA] AD requires a modification by adding sealant and protective treatment on the affected passenger doors.

You may examine the MCAI in the AD docket on the internet at http://www.regulations.gov by searching for and locating Docket No. FAA-2018-0761.

Comments

We gave the public the opportunity to participate in developing this final rule. The following presents the comments received on the NPRM and the FAA's response to each comment.

Support for the NPRM

The Air Line Pilots Association, International (ALPA), Delta Air Lines (DAL), and JM, a private citizen, indicated their support for the NPRM.

Request To Allow Alternative Method of Compliance

DAL requested the addition of a paragraph in the final rule that would allow operators to use certain Airbus Model A350 Airplane Maintenance Manual (AMM) tasks, identified in the comment, to accomplish the actions that would be required by the final rule. The commenter noted that the Airbus Model A350 AMM includes tasks related to maintenance of the passenger door frame fittings, including installation of the fittings with sealant applied between the fitting and the door, similar to what is described in the Accomplishment Instructions of Airbus Service Bulletin A350-52-P012, dated September 7, 2017.

The commenter also pointed out that the Airbus Model A350 AMM tasks do not include application of a top coat spray or corrosion prevention compound after installation of passenger door frame fittings, or include application of top coat sealant and application of primer over the fasteners, which are included in the Accomplishment Instructions of Airbus Service Bulletin A350-52-P012, dated September 7, 2017. The commenter observed that replacement of passenger door frame fittings in-service is customary, and that if an operator uses the Airbus Model A350 AMM tasks in-service to rework the passenger door frame fittings, the operator could be out of compliance with the requirements of the final rule because of the differences in the procedures between the Airbus Model A350 AMM tasks and the Accomplishment Instructions of Airbus Service Bulletin A350-52-P012, dated September 7, 2017.

The commenter also indicated that some operators may perceive using the fay surface sealant as described in the Airbus Model A350 AMM tasks to be a more robust solution than the spray-on corrosion inhibitor compounds or top coating of fasteners described in the Accomplishment Instructions of Airbus Service Bulletin A350-52-P012, dated September 7, 2017. The commenter observed that some operators may prefer to remove the passenger door frame fittings, apply the fay surface sealant, and re-install the passenger door frame fittings.

The commenter clarified that the language in the suggested paragraph would not mandate the use of the Airbus Model A350 AMM tasks, but would state that operators would have to apply for an alternative method of compliance (AMOC) in order to use the Airbus Model A350 AMM tasks instead of the procedures in the Accomplishment Instructions of Airbus Service Bulletin A350-52-P012, dated September 7, 2017.

We disagree with the commenter's request. The Airbus Model A350 AMM task numbers provided by the commenter do not match the Airbus Model A350 AMM task numbers specified in Airbus Service Bulletin A350-52-P012, dated September 7, 2017. Also, the commenter did not provide sufficient documentation to show that, in regard to the unsafe condition identified in this AD, the Airbus Model A350 AMM tasks provide an equivalent level of safety as the procedures described in Airbus Service Bulletin A350-52-P012, dated September 7, 2017. Under the provisions of paragraph (h)(1) of this AD, operators may apply for an AMOC to use other Airbus Model A350 AMM tasks instead of the procedures in the Accomplishment Instructions of Airbus Service Bulletin A350-52-P012, dated September 7, 2017. We have not changed this AD in regard to this issue.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus SAS has issued Service Bulletin A350-52-P012, dated September 7, 2017. This service information describes procedures for modification of the hybrid joints of the left-hand and right-hand sides of the passenger door frame fittings at doors 1, 2, 3 and 4, by applying additional corrosion protection. This service information is reasonably available because the interested parties have access to it through their normal course of business or by the means identified in the ADDRESSES section.

Costs of Compliance

We estimate that this AD affects 1 airplane of U.S. registry. We estimate the following costs to comply with this AD:

Estimated Costs
Labor cost | Parts cost | Cost per product | Cost on U.S. operators
60 work-hours × $85 per hour = $5,100 | $0 | $5,100 | $5,100

According to the manufacturer, some or all of the costs of this AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-25-05 Airbus SAS: Amendment 39-19516; Docket No. FAA-2018-0761; Product Identifier 2018-NM-088-AD.

(a) Effective Date

This AD is effective January 14, 2019.

(b) Affected ADs

None.

(c) Applicability

This AD applies to Airbus SAS Model A350-941 airplanes, certificated in any category, as identified in Airbus Service Bulletin A350-52-P012, dated September 7, 2017.

(d) Subject

Air Transport Association (ATA) of America Code 52, Doors.

(e) Reason

This AD was prompted by reports that, for multimaterial (hybrid) joints of the passenger door frame fittings, the interfay sealant was not applied between all surfaces of the joint parts. We are issuing this AD to address water ingress in the hybrid joints and subsequent galvanic corrosion of the aluminum holes. This condition, if not corrected, could lead to failure of the door, resulting in reduced evacuation capacity from the airplane during an emergency and consequent injury to occupants.

(f) Compliance

Comply with this AD within the compliance times specified, unless already done.

(g) Modification of Passenger Door Hybrid Joints

Within 48 months after the date of issuance of the original certificate of airworthiness or the original export certificate of airworthiness, whichever occurs earlier: Apply additional corrosion protection (e.g. primer/topcoat or corrosion prevention compound) to the hybrid joints of the left-hand and right-hand sides of the passenger door frame fittings at doors 1, 2, 3 and 4, in accordance with the Accomplishment Instructions of Airbus Service Bulletin A350-52-P012, dated September 7, 2017.

(h) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(i) Related Information

(1) Refer to Mandatory Continuing Airworthiness Information (MCAI) EASA AD 2018-0108, dated May 15, 2018, for related information. This MCAI may be found in the AD docket on the internet at http://www.regulations.gov by searching for and locating Docket No. FAA-2018-0761.

(2) For more information about this AD, contact Kathleen Arrigotti, Aerospace Engineer, International Section, Transport Standards Branch, FAA, 2200 South 216th St., Des Moines, WA 98198; telephone and fax 206-231-3218.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A350-52-P012, dated September 7, 2017.

(ii) [Reserved]

(3) For service information identified in this AD, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 23, 2018.
John P. Piccola,
Acting Director, System Oversight Division, Aircraft Certification Service.

[FR Doc. 2018-26464 Filed 12-7-18; 8:45 am]

BILLING CODE 4910-13-P